ENVIRONMENTAL PROTECTION AGENCY

[FRL-7152-3]

Environmental Laboratory Advisory Board (ELAB) Meeting Dates, and Agenda

AGENCY: Environmental Protection Agency.

ACTION: Notice of teleconference meeting.

SUMMARY: The Environmental Protection Agency's Environmental Laboratory Advisory Board (ELAB) will have a teleconference meeting on March 20, 2002, at 11 A.M. EST to discuss the ideas and views presented at the previous ELAB meetings, as well as new business. Items to be discussed include: (1) Update on recommendations to restructure the National Environmental Laboratory Accreditation Conference (NELAC) to allow it to better serve the future needs of EPA, the States, and the private sector; (2) approaches to facilitate NELAP accreditation of smaller environmental laboratories; (3) review of ELAB recommendations to EPA; and (4) the reports from ELAB work groups. ELAB is soliciting input from the public on these and other issues related to the National Environmental Laboratory Accreditation Program (NELAP) and the NELAC standards. Written comments on NELAP laboratory accreditation and the NELAC standards are encouraged and should be sent to Mr. Edward Kantor, DFO, PO Box 93478, Las Vegas NV 89193, faxed to (702) 798-2261, or emailed to kantor.edward@epa.gov. Members of the public are invited to listen to the teleconference calls, and time permitting, will be allowed to comment on issues discussed during this and previous ELAB meetings. Those persons interested in attending should call Edward Kantor at 702-798-2690 to obtain teleconference information. The number of lines are limited and will be distributed on a first come, first serve basis. Preference will be given to a group wishing to attend over a request from an individual.

Gareth Pearson,
Acting Director, Environmental Sciences Division, National Environmental Research Laboratory.

[FR Doc. 02-5186 Filed 3-4-02; 8:45 am]

BILLING CODE 6560-50-P